ENVIRONMENTAL PROTECTION AGENCY

[OPP-2003-0397; FRL-7350-9]

Molinate; Cancellation Order

AGENCY: Environmental Protection Agency (EPA).

ACTION: Notice.

SUMMARY: In accordance with section 6(f)(1) of the Federal Insecticide, Fungicide, and Rodenticide Act (FIFRA), as amended, the Agency is issuing a cancellation order announcing its approval of the requests submitted by Syngenta Crop Protection Inc., and Helm Agro U.S. Inc., to amend and voluntarily cancel the registrations of all of their products containing S-ethyl hexahydro-1H-azepine-1-carbothioate (molinate) effective June 30, 2008. Any distribution, sale or use of the products subject to this cancellation order is only permitted in accordance with the terms of the existing stocks provisions of this cancellation order.

FOR FURTHER INFORMATION CONTACT: Wilhelmena Livingston, Special Review and Reregistration Division (7508C), Office of Pesticide Programs, Environmental Protection Agency, 1200 Pennsylvania Ave., NW., Washington, DC 20460-0001; telephone number: (703) 308-8025; fax number: (703) 308-8041; e-mail address: livingston.wilhelmena@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of This Document and Other Related Information?

1. Docket. EPA has established an official public docket for this action under docket identification (ID) number OPP-2003-0397. The official public docket consists of the documents specifically referenced in this action, any public comments received and other information related to this action. Although a part of the official docket, the public docket does not include Confidential Business Information (CBI) or other information whose disclosure is restricted by statute. The official public docket is the collection of materials that is available for public viewing at the Public Information and Records Integrity Branch (PIRIB), Room 119, Crystal Mall #2, 1921 Jefferson Davis Highway, Arlington, VA 22202-4501. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, access those documents in the public docket that are available electronically. Although not all docket materials may be available electronically, you may still access any of the publicly available docket materials through the docket facility identified in Unit I.B.1. Once in the system, select “search,” then key in the appropriate docket ID number.

II. What Action is the Agency Taking?

This notice announces that EPA is approving the cancellation order requests, from Syngenta Crop Protection Inc., and Helm Agro U.S. Inc., to cancel the registration of 14 pesticide products registered under section 3 or 24(c) of FIFRA. These 14 registrations constitute all registrations held by Syngenta Crop Protection Inc., and Helm Agro U.S. Inc., of products containing S-ethyl hexahydro-1H-azepine-1-carbothioate (molinate). These requests are submitted pursuant to section 6(f) of FIFRA. In addition, EPA is approving requests from Syngenta Crop Protection Inc., and Helm Agro U.S. to amend the registrations for these products for the time period prior to their cancellation.

On June 2, 2003, Syngenta Crop Protection Inc., and on August 7, 2003, Helm Agro U.S. Inc., submitted a letter to EPA requesting cancellation, effective June 30, 2008, of the registrations of all their molinate products, and to modify the terms and conditions of its molinate registration until the cancellation is effective. This order follows up a Federal Register notice of September 17, 2003 (68 FR 54451) (FRL-7324-7), announcing receipt of written requests by Syngenta Crop Protection Inc., and Helm Agro U.S., Inc., to voluntarily cancel their molinate product registrations. Syngenta and Helm also requested that the Administrator waive the 180-day waiting period under FIFRA section 6(f)(1)(C)(ii).

Molinate is a thiocarbamate herbicide registered for use primarily for the control of water grass in rice. Rice is grown in California and the south central/south eastern states of Arkansas, Louisiana, Missouri, Tennessee, and Texas. The registrations subject to the requests for cancellation are listed by registration number in Table 1 of this unit.

After considering comments received, EPA has decided to accept the voluntary cancellation requests. Accordingly, the Agency is issuing an Order in this Notice canceling the 14 registrations identified in Table 1.

Table 1.—Approved Registration Cancellations
Registration Number | Product Name | Chemical
100-981 | Riceco Molinate Technical | Molinate
100-982 | Riceco Touche | Molinate
100-983 | Molinate 15G | Molinate
100-1021 | Ordram 8-E An Emulsufiable Liquid Herbicide | Molinate
100-1036 | Arrosolo 3-3E | Molinate
100-1039 | Ordram 15-G | Molinate
100-1040 | Ordram Technical Herbicide | Molinate
100-1102 | Ordram 15-GM Rice Herbicide | Molinate
74530-7 | Molinate Technical | Molinate
CA77015900 | Ordram 8-E An Emulsufiable Liquid Herbicide | Molinate
CA84017200 | Ordram 8-E An Emulsufiable Liquid Herbicide | Molinate
CA85005300 | Ordram 8-E An Emulsufiable Liquid Herbicide | Molinate
TX81002600 | Ordram 8-E Emulsufiable Liquid Herbicide | Molinate
TN93000700 | Ordram 15-G | Molinate

Table 2 of this unit includes the name and address of record for the registrants of the products in Table 1 of this unit, in sequence by EPA company number:

Table 2.—Registrants Requesting Voluntary Cancellation
Company Number | Company Name and Address
100 | Syngenta Crop Protection, Inc. P.O. Box 18300 Greensboro, NC 27419-8300
74530 | Helm Agro U.S., Inc. Nordkanalstrasse 28 D-20097 Hamburg, Germany

III. Cancellation Order

Pursuant to section 6(f) of FIFRA, EPA hereby approves the requested cancellations of molinate product registrations identified in Table 1 of this notice. Accordingly, the Agency orders that the molinate product registrations identified in Table 1 are hereby canceled as of June 30, 2008.

IV. Modification of the Terms and Conditions of the Molinate Registrations

The 2002 sales level of the molinate active ingredient will be the maximum amount that Syngenta and Helm will sell or distribute in 2004, 2005, and 2006. Syngenta and Helm may not sell or distribute any more than 75% of the 2002 sales levels in the year 2007, and sell or distribute more than 50% of the 2002 sales levels in the year 2008.

Syngenta and Helm will provide annual production/sales reports to the Agency beginning in the year 2004 through 2009. Syngenta and Helm will also provide inventory reports for the years 2007, 2008, and 2009. These reports will be submitted by September 30 of each year to the Agency's Chemical Review Manager for molinate.

Failure by either registrant to comply with the sale or distribution limits contained in the molinate registration constitutes grounds for immediate cancellation of the registration without opportunity for a hearing.

V. What is the Agency's Authority for Taking this Action?

Section (6)(f)(1) of FIFRA provides that a registrant of a pesticide product may at any time request that any of its pesticide registration be canceled. FIFRA further provides that before acting on the request, EPA must publish a notice of receipt of any such request in the Federal Register. Thereafter, the Administrator may approve such a request.

VI. What Comments Did the Agency Receive?

EPA received two sets of comments on the voluntary cancellation requests for molinate products during the comment period. The commenters, Pesticide Action Network North America (PANNA) and Natural Resource and Defense Council (NRDC) strongly support the cancellation of molinate, but are concerned that the proposed phase-out is too long and will permit ongoing environmental and human health harm for many years. Further, they were concerned that the Agency is not requiring risk mitigation during the phase-out period to address exposure to molinate in ambient air.

EPA believes the voluntary agreement achieves more timely risk mitigation then would have been achieved through a regulatory process. In addition, under FIFRA, where the Agency must look at risks and benefits of a pesticide, it is not certain that the result of reregistration would have been cancellation. EPA's detailed responses to PANNA and NRDC comments may be found in the docket listed in Unit I.B1.

VII. Provisions for Disposition of Existing Stocks

For purposes of this Cancellation Order, the term “existing stocks” is defined, pursuant to EPA's existing stocks policy (56 FR 29362, June 26, 1991), as those stocks of a registered pesticide product which are currently in the United States and which have been packaged, labeled and released for shipment prior to the effective date of the cancellation order. The existing stocks provisions of this cancellation order are as follows:

The cancellation of these registrations has an effective date of June 30, 2008. After that date, Syngenta Crop Protection Inc., and Helm Agro U.S. Inc., may not sell or distribute any molinate products except as detailed in the cancellation order. Syngenta Crop Protection Inc., and Helm Agro U.S. Inc., will be permitted to distribute the molinate active ingredient in 2009 for the purposes of facilitating usage by August 31, 2009. No use of products containing molinate is permitted after the 2009 growing season (August 31, 2009).

List of Subjects

Environmental protection, Pesticides and pests.

Dated: March 26, 2004.
Debra Edwards,
Director, Special Review and Reregistration Division, Office of Pesticide Programs.

[FR Doc. 04-7868 Filed 4-6-04; 8:45 am]

BILLING CODE 6560-50-S